DEPARTMENT OF JUSTICE

Notice of Lodging of Consent Decree Under the Clean Water Act

Consistent with 28 CFR § 50.7, notice is hereby given that on April 17, 2001, a proposed consent decree (“Consent Decree”) in United States v. Black Mesa Pipeline, Inc.,, Civil Action No. CIV-01-0681-PCT-EHC, was lodged with the United States District Court for the District of Arizona.

The Consent Decree resolves claims that the United States asserted against Black Mesa in a civil complaint filed concurrently with the lodging of the Consent Decree. The complaint alleges violations of the Clean Water Act at the company's coal slurry pipeline that runs from Peabody Western Coal Co.'s Black Mesa Mine near Kayenta, Arizona to the Southern California Edison Co.'s Mohave Generating Station in Laughlin, Nevada. Specifically, the complaint alleges that there were seven discharges of coal slurry from the pipeline between 1997 and 1999, which discharges reached waters of the United States. The State of Arizona is a co-plaintiff.

The Consent Decree requires defendant to pay a civil penalty of $128,000, plus interest. The payment will be split, with $79,000 being paid to the United States and $49,000 being paid to the State. The Consent Decree also requires defendant to implement a Preventative Measures Plan to prevent further spills and to continue to implement a Protocol for addressing spills should any occur.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Black Mesa Pipeline, Inc., Civil Action No. CIV-01-0681-PCT-EHC, and D.J. Ref. 90-5-1-1-06803.

The Consent Decree may be examined at the Office of the United States Attorney, 4000 U.S. Courthouse, 230 North First Street, Phoenix, Arizona or at EPA Region 9, 75 Hawthorne Street, San Francisco, CA 94105. A copy of the Consent Decree may be obtained by mail from the Consent Decree Library, P.O. Box 7611, U.S. Department of Justice, Washington, DC 20044-7611. In requesting a copy, please enclose a check in the amount of $8.00 (25 cents per page reproduction cost) payable to the Consent Decree Library.

Ellen M. Mahan,
Assistant Section Chief, Environmenal Enforcement Section.

[FR Doc. 01-12854 Filed 5-21-01; 8:45 am]

BILLING CODE 4410-15-M